DEPARTMENT OF ENERGY

Federal Energy Regulatory Commission

[Docket No. RM05-6-000]

Commission Authorization To Hold Interlocking Positions; Notice of Authorization to Hold Interlocking Postions

April 18, 2006.

Take notice that, pursuant to section 45.9 of the Commission's regulations ¹ and Order No. 664,² authorization to hold interlocking positions is deemed granted to those persons who filed, prior to the effective date of Order No. 664, i.e., prior to October 24, 2005, completed informational reports to hold interlocking positions under section 45.9 of the Commission's regulations.

By order of the Commission.
Magalie R. Salas,
Secretary.

¹ 18 CFR 45.9 (2005).

² Commission Authorization to Hold Interlocking Positions, Order No. 664, FERC Stats. & Regs. ¶ 31,194 at P 31 (2005).

[FR Doc. E6-6174 Filed 4-24-06; 8:45 am]

BILLING CODE 6717-01-P